DEPARTMENT OF JUSTICE

Parole Commission

Sunshine Act Meeting

Time and Date: 11:00 a.m., May 24, 2017.

Place: U.S. Parole Commission, 90 K Street NE., 3rd Floor, Washington, DC.

Status: Open.

Matters to be Considered: Approval of January 25, 2017 minutes; Reports from the Vice Chairman, Commissioners and Senior Staff; Hearings by Video Conference; Transfer Treaty; Medical Parole-Federal Population.

Contact Person for More Information: Jacqueline Graham, Staff Assistant to the Chairman, U.S. Parole Commission, 90 K Street NE., 3rd Floor, Washington, DC 20530, (202) 346-7010.

Dated: May 17, 2017.
J. Patricia W. Smoot,
Chairman, U.S. Parole Commission.

[FR Doc. 2017-10723 Filed 5-23-17; 11:15 am]

BILLING CODE 4410-31-P